DEPARTMENT OF HEALTH AND HUMAN SERVICES

National Institutes of Health

National Cancer Institute; Amended Notice of Meeting

Notice is hereby given of a change in the meeting of the Board of Scientific Counselors, National Cancer Institute, November 13, 2023, 10 a.m. to November 14, 2023, 1:45 p.m., National Institute of Health, Building 31, C Wing, 6th Floor, Conference Room C, 9000 Rockville Pike, Bethesda, MD 20892, which was published in the Federal Register on September 28, 2023, FR Doc 2023-21147, 88 FR 66861.

This meeting notice is being amended to change the meeting type from partially closed to closed. Due to scheduling difficulties, there will no longer be an open session of the meeting. The meeting is closed to the public.

Dated: September 28, 2023.
Melanie J. Pantoja,
Program Analyst, Office of Federal Advisory Committee Policy.

[FR Doc. 2023-21974 Filed 10-3-23; 8:45 am]

BILLING CODE 4140-01-P